DEPARTMENT OF HEALTH AND HUMAN SERVICES

Administration for Children and Families

Submission for OMB Review; Comment Request

Title: Supporting Healthy Marriage (SHM) Project Baseline Data Collection.

OMB No.: New Collection.

Description: The Administration for Children and Families (ACF), U.S. Department of Health and Human Services (HHS), is conducting a demonstration and evaluation called the Supporting Healthy Marriage (SHM) Project. Based on a substantial body of research that has shown a relationship between healthy marriages and a variety of positive child and family outcomes, the project is a large-scale, multi-site, multi-year, rigorous test of marriage education programs for interested low-income married couples with children. The SHM Project is designed to inform program operators and policymakers of the most effective ways to help couples who voluntarily choose to participate in demonstrations designed to strengthen and maintain healthy marriages.

The baseline data collection will serve several key functions in the SHM study. It will help describe the population being served, which will be useful to the programs themselves, to other marriage education program providers, and to policymakers who seek to understand the characteristics of couples that are interested in marriage education services. It will allow the SHM team to define and conduct analyses of key sub-groups, addressing the key study question of who benefits most and least from marriage education services. A baseline data collection will also increase the precision of estimated impacts and allow the research team to conduct analyses using pre- and post-intervention measures. Lastly, the baseline data collection is an opportunity to collect participant contact information, to check the validity of random assignment, and to assess the quality of survey data and attrition.

Respondents: The target population of the SHM study is low-income married couples with children or expecting a child. Both members of the couple must be over 18, and both must volunteer to participate in the program. In addition, SHM is not intended for couples who are in dangerous relationships or who are experiencing serious family violence. Programs will provide opportunities for the safe disclosure of family violence, as well as access to appropriate services when family violence is disclosed.

The respondents for the Supporting Healthy Marriage Project Baseline Data Collection will be participants in the SHM study. This will include both those receiving SHM program services and those in the SHM study control group. The respondents will be both spouses of 1,000 low-income married couples (2,000 respondents) in each of up to eight sites. The total number of respondents could be up to 16,000. In summary, the evaluation will include up to 8 sites phased in over four years, in which case the annual burden can be represented by one quarter of the total burden. The chart below outlines the estimated annual burden that could result from the SHM baseline data collection. The estimates below are based on pre-tests of the baseline instrument with individuals similar to the SHM target population.

Annual Burden Estimates
Instrument | Annual number of respondents | Number of responses per respondent | Average burden per response (min) | Estimated annual burden hours
Eligibility Checklist | 4,000 | 1 | 5 | 332
Informed Consent Form | 4,000 | 1 | 10 | 668
Baseline Information Form | 4,000 | 1 | 9 | 600
Self-Administered Questionnaire | 4,000 | 1 | 11 | 732
Contact Information Sheet | 4,000 | 1 | 10 | 668

Estimated Annual Burden Hours: 3,000.

Additional Information: Copies of the proposed collection may be obtained by writing to The Administration for Children and Families, Office of Information Services, 370 L'Enfant Promenade, SW., Washington, DC 20447, Attn: ACF Reports Clearance Officer. E-mail address: infocollections@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eop.gov.

Dated: March 31, 2006.
Robert Sargis,
Reports Clearance Officer.

[FR Doc. 06-3348 Filed 4-6-06; 8:45 am]

BILLING CODE 4184-01-M